NATIONAL AERONAUTICS AND SPACE ADMINISTRATION

[Notice: (18-064)]

NASA Advisory Council; Meeting

AGENCY: National Aeronautics and Space Administration.

ACTION: Notice of meeting.

SUMMARY: In accordance with the Federal Advisory Committee Act, as amended, the National Aeronautics and Space Administration (NASA) announces a meeting of the NASA Advisory Council (NAC).

DATES: Wednesday, August 29, 2018, 1:00-5:00 p.m.; and Thursday, August 30, 2018, 10:30 a.m.-4:00 p.m., PDT.

ADDRESSES: NASA Ames Research Center, NASA Ames Conference Center, Building 3, 500 Severyns Road, Ballroom, Moffett Field, CA 94035.

FOR FURTHER INFORMATION CONTACT: Ms. Marla King, NAC Administrative Officer, NASA Headquarters, Washington, DC 20546, (202) 358-1148 or marla.k.king@nasa.gov.

SUPPLEMENTARY INFORMATION: This meeting will be open to the public up to the capacity of the meeting room. This meeting is also available telephonically and by WebEx. You must use a touch-tone phone to participate in this meeting. Any interested person may dial the Toll Number 1-517-308-9086 or Toll Free Number 888-989-0726 and then the numeric passcode: 3899540, followed by the # sign to participate in this meeting by telephone on both days. NOTE: If dialing in, please “mute” your phone. To join via WebEx, the link is https://nasa.webex.com/. The meeting number on Wednesday, August 29, 2018, is 999 699 903 and the meeting password is 38NR3eC? (case sensitive). The meeting number on Thursday, August 30, 2018, is 994 724 844 and the meeting password is 293ijRu* (case sensitive).

The agenda for the meeting will include reports from the following:

—Aeronautics Committee

—Human Exploration and Operations Committee

—Science Committee

—Technology, Innovation and Engineering Committee

—Ad Hoc Task Force on STEM Education

For NASA Ames Research Center visitor access, please go through the Main Gate and show a valid government-issued identification (i.e., driver's license, passport, etc.) to the security guard. Inform the security guard that you are attending a meeting in Building 3. Attendees will also be required to sign a register prior to entering the meeting room. It is imperative that the meeting be held on these dates to the scheduling priorities of the key participants.

Patricia Rausch,
Advisory Committee Management Officer, National Aeronautics and Space Administration.

[FR Doc. 2018-17464 Filed 8-13-18; 8:45 am]

BILLING CODE 7510-13-P